DEPARTMENT OF THE INTERIOR

Bureau of Land Management

[XXX.LLID957000. L19100000.BJ0000. LRCSD200570D. 241A00;4500149675]

Filing of Plats of Survey: Idaho

AGENCY: Bureau of Land Management, Interior.

ACTION: Notice of filing of plats of surveys.

SUMMARY: The Bureau of Land Management (BLM) has officially filed the plats of survey of the lands described below in the BLM Idaho State Office, Boise, Idaho, on the dates specified.

Boise Meridian

Idaho

T. 10 S., R. 21 E., Section 24, accepted September 17, 2020

T. 10 S., R. 21 E., Section 25, accepted September 17, 2020

ADDRESSES: A copy of the plats may be obtained from the Public Room at the BLM, Idaho State Office, 1387 S Vinnell Way, Boise, Idaho 83709, upon required payment.

FOR FURTHER INFORMATION CONTACT: Timothy A. Quincy, 208-373-3981, Branch of Cadastral Survey, BLM, 1387 S Vinnell Way, Boise, Idaho 83709-1657. Persons who use a telecommunications device for the deaf (TDD) may call the Federal Relay Service (FRS) at 1-800-877-8339 to contact the above individual during normal business hours. The FRS is available 24 hours a day, 7 days a week, to leave a message or question with Mr. Quincy. You will receive a reply during normal business hours.

SUPPLEMENTARY INFORMATION: The U.S. Bureau of Reclamation requested a survey and supplemental plat to identify certain Federal interest lands in order to facilitate the transfer of title of Reclamation project facilities to qualifying entities under Title VIII of the John D. Dingell, Jr. Conservation, Management, and Recreation Act (Pub. L. 116-9).

A person or party who wishes to protest one or more plats of survey identified above must file a written notice with the Chief Cadastral Surveyor for Idaho, BLM. The protest must identify the plat(s) of survey that the person or party wishes to protest and contain all reasons and evidence in support of the protest. The BLM considers a protest filed on the date the Chief Cadastral Surveyor for Idaho receives it during regular business hours; if the BLM receives a protest after regular business hours, the BLM considers it to be filed the next business day.

Before including your address, phone number, email address, or other personal identifying information in a protest, you should be aware that the documents you submit, including your personal identifying information, may be made publicly available in their entirety at any time. While you can ask us to withhold your personal identifying information from public review, we cannot guarantee that we will be able to do so.

Timothy A. Quincy,
Chief Cadastral Surveyor for Idaho.

[FR Doc. 2020-24264 Filed 11-2-20; 8:45 am]

BILLING CODE 4310-GG-P